DEPARTMENT OF HOMELAND SECURITY

Coast Guard

33 CFR Part 117

[Docket No. USCG-2016-0963]

RIN 1625-AA09

Drawbridge Operation Regulations; Tchefuncta River, Madisonville, LA

AGENCY: Coast Guard, DHS.

ACTION: Notice of temporary deviation from regulations; request for comments.

SUMMARY: The Coast Guard has issued a temporary deviation from the operating schedule that governs the State Route 22 Bridge (Madisonville (SR22) swing span bridge) across the Tchefuncta River, mile 2.5, at Madisonville, St. Tammany Parish, Louisiana. This deviation will test a change to the drawbridge operation schedule to determine whether a permanent change to the schedule is needed. This deviation will allow the bridge to only open for vessels on the hour during the day and to not open for vessels during the weekday peak traffic hours.

DATES: This deviation is effective from 6 a.m. on November 21, 2016 through midnight on May 18, 2017.

Comments and related material must reach the Coast Guard on or before January 18, 2017.

ADDRESSES: You may submit comments identified by docket number USCG-2016-0963 using the Federal eRulemaking Portal at http://www.regulations.gov. See the “Public Participation and Request for Comments” portion of the SUPPLEMENTARY INFORMATION section below for instructions on submitting comments.

FOR FURTHER INFORMATION CONTACT: If you have questions on this test deviation, call or email David Frank, Bridge Administrator at 504-671-2128, email david.m.frank@uscg.mil.

SUPPLEMENTARY INFORMATION:

I. Background, Purpose and Legal Basis

The State Route 22 (SR 22) swing span bridge across Tchefuncta River, mile 2.5, at Madisonville, St. Tammany Parish, Louisiana presently operates under 33 CFR 117.500. The SR 22 swing bridge has a vertical clearance of 6.2 feet above Mean High Water (MHW) in the closed-to-navigation position and unlimited clearance in the open-to-navigation position.

Local governmental officials from St. Tammany Parish and the City of Madisonville, in conjunction with the Louisiana Department of Transportation and Development (LDOTD) have requested that the operating regulation of the SR 22 swing span bridge be changed in order to better accommodate the increased vehicular traffic crossing the bridge especially during the peak, weekday rush hours. A traffic study conducted by the LDOTD has determined that the existing vehicular traffic at the intersection of SR 22 and SR 21/SR 1077 is over capacity at peak hours and causes unacceptable levels of delay to roadway traffic. This situation is compounded by the opening of the bridge during these peak hours. A combination of modifications to the operating schedule of the bridge and modifications to the traffic controls at this intersection will improve traffic flow and reduce traffic delays.

Approximately 7,500 vehicles cross the bridge daily between the hours of 6 a.m. and 7 p.m. Vessel openings for the month of July indicate that the bridge opened to pass vessels 118 times during the week and 202 times during the weekend. Vessel openings for the month of August dropped to 68 openings during the week and 85 openings during the weekend.

Concurrent with the publication of the Test Deviation, a Notice of Proposed Rulemaking (NPRM) [USCG-2016-0963] has been issued to allow the LDOTD to test the proposed schedule and to obtain data and public comments. The test period will be in effect during the entire NPRM comment period. The Coast Guard will review the logs of the drawbridge, the traffic counts provided by LDOTD, and evaluate public comments from this NPRM and the above referenced Temporary Deviation to determine if the requested change to the permanent special drawbridge operating regulation is warranted.

The deviation to test the proposed schedule will allow the SR 22 Bridge, mile 2.5 at Madisonville to operate as follows: The draw of the SR22 Bridge shall open on signal from 7 p.m. to 6 a.m. From 6 a.m. to 7 p.m., the draw need only open on the hour, except that the draw need not open for the passage of vessels at 8 a.m., 5 p.m. and 6 p.m. Monday through Friday except federal holidays. The bridge will open at any time an emergency.

During the 180-day deviation, LDOTD will continue to monitor vehicular traffic counts and work to make roadway traffic control improvements to further reduce vehicular traffic delays.

There are no alternate routes available for vessels that wish to transit the bridge site; however, if vessels have a vertical clearance requirement of less than 6.2 feet above MHW, they may transit the bridge site at any time.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this notice of temporary deviation from regulations, and all public comments, are in our online docket at http://www.regulations.gov and can be viewed by following that Web site's instructions. Additionally, if you go to the online docket and sign up for email alerts, you will be notified when comments are posted or a final rule is published.

Dated: October 31, 2016.
David M. Frank,
Bridge Administrator, Eighth Coast Guard District.

[FR Doc. 2016-26655 Filed 11-3-16; 8:45 am]

BILLING CODE 9110-04-P